FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

20190269 | G | FAA Jr. Family Trust; AirCo Aviation Services LLC; FAA Jr. Family Trust.
20190361 | G | Crestview Partners II, L.P.; United Services Automobile Association; Crestview Partners II, L.P.
20190373 | G | Sun Capital Partners VI, LP.; Natural Resource Partners L.P.; Sun Capital Partners VI, LP.
20190381 | G | TowerBrook Investors IV (Onshore), L.P.; Gryphon Partners 3.5, L.P.; TowerBrook Investors IV (Onshore), L.P.
12/04/2018
20190272 | G | Carl Zeiss Stiftung; Iantech, Inc.; Carl Zeiss Stiftung.
20190397 | G | Lamb Weston Holdings, Inc.; Ochoa Ag Unlimited Foods, Inc.; Lamb Weston Holdings, Inc.
20190402 | G | Mercuria Energy Group Holding Limited; Aegean Marine Petroleum Network Inc.; Mercuria Energy Group Holding Limited.
12/06/2018
20190231 | G | Hoya Corporation; Kai Chen; Hoya Corporation.
20190372 | G | Edenred S.A.; Keith J. Stone; Edenred S.A.
20190374 | G | The Resolute Fund IV, L.P.; Marlin Heritage, L.P.; The Resolute Fund IV, L.P.
20190403 | G | KKR Americas Fund XII, L.P.; CAI Capital Partners and Company IV, L.P.; KKR Americas Fund XII, L.P.
20190089 | G | Permira VI L.P. 1; XO Group Inc.; Permira VI L.P. 1.
20190301 | G | Ferguson plc.; Mr. Robert Mannheimer; Ferguson plc.
20190319 | G | Agrosuper S.A.; Empresas AquaChile S.A.; Agrosuper S.A.
20190369 | G | Pershing Square International, Ltd.; Lowe's Companies, Inc.; Pershing Square International, Ltd.
20190391 | G | Gryphon Partners V, L.P.; FCP-RegEd Holdings, LLC; Gryphon Partners V, L.P.
20190395 | G | The Veritas Capital Fund VI, L.P.; athenahealth, Inc.; The Veritas Capital Fund VI, L.P.
20190404 | G | FS Equity Partners VII, L.P.; MSouth Equity Partners III, L.P.; FS Equity Partners VII, L.P.
20190408 | G | New Wolfpack Parent, LLC; Oak Hill Capital Partners III, L.P.; New Wolfpack Parent, LLC.
20190409 | G | Pioneer Natural Resources Company; ProPetro Holding Corp.; Pioneer Natural Resources Company.
20190410 | G | ProPetro Holding Corp.; Pioneer Natural Resources Company; ProPetro Holding Corp.
20190411 | G | GTCR Fund XII/B LP; TA XI NS-A Feeder, L.P.; GTCR Fund XII/B LP.
20190413 | G | Vistria Fund II, LP; BHG Investments, LLC; Vistria Fund II, LP.
20190415 | G | Sterling Investment Partners III, L.P.; Mar-Cone Appliance Parts Co.; Sterling Investment Partners III, L.P.
20190416 | G | SoftBank Vision Fund (AIV M2) L.P.; Kabbage Inc.; SoftBank Vision Fund (AIV M2) L.P.
20190418 | G | Sunoco LP; American Midstream Partners, LP; Sunoco LP.
20190432 | G | American Securities Partners VII, L.P.; TPG Partners VI, LP; American Securities Partners VII, L.P.
20190437 | G | Jeffery D. Hildebrand; General Electric Company; Jeffery D. Hildebrand.
20190439 | G | BW AIV IV Direct Feeder, LP; Timothy Fox; BW AIV IV Direct Feeder, LP.
20190446 | G | Cushman & Wakefield plc; Gridiron Capital Fund II, LP; Cushman & Wakefield plc.
20190452 | G | Carlyle U.S. Equity Opportunity Fund II, L.P.; William Marsh Rice University; Carlyle U.S. Equity Opportunity Fund II, L.P.
20190454 | G | Kerry Group plc; G & L Holdings, Inc.; Kerry Group plc.
12/11/2018
20190365 | G | Spectrum Brands Holdings, Inc.; Energizer Holdings, Inc.; Spectrum Brands Holdings, Inc.
20190366 | G | Energizer Holdings, Inc.; Spectrum Brands Holdings, Inc.; Energizer Holdings, Inc.
20190378 | G | Cable One, Inc.; SCP Clearwave FO LLC; Cable One, Inc.
20190394 | G | Mary Ann Walters; Slakey Brothers, Inc.; Mary Ann Walters.
20190436 | G | Compass Group PLC; VGM Group, Inc.; Compass Group PLC.
20190456 | G | NHIP II Bison Holdings, LLC; The Williams Companies, Inc.; NHIP II Bison Holdings, LLC.
20190459 | G | MH JV Holdings, LP; Clearview Risk Holdings, LLC; MH JV Holdings, LP.
20190461 | G | Paychex, Inc.; Oasis Outsourcing Group Holdings, L.P.; Paychex, Inc.
20190462 | G | Five Point Energy Fund I LP; Concho Resources Inc.; Five Point Energy Fund I LP.
20190467 | G | Palladium Equity Partners V, LP; Guillermo Quirch Jr; Palladium Equity Partners V, LP.
20190349 | G | Autodesk, Inc.; PlanGrid, Inc.; Autodesk, Inc.
20190406 | G | BlackBerry Limited; Cylance Inc.; BlackBerry Limited.
20190407 | G | JFL Equity Investors IV, L.P.; Strength Capital Partners II LP; JFL Equity Investors IV, L.P.
20190412 | G | Delta Dental of California; Oregon Dental Service; Delta Dental of California.
20190427 | G | Thoma Bravo Discover Fund II, L.P.; PEC Premier Safety LLC; Thoma Bravo Discover Fund II, L.P.
20190450 | G | Irrevocable Trust for Grandchildren; Marvin M. Schwan 1992 Great Great Grandchildren's Trust; Irrevocable Trust for Grandchildren.
20190451 | G | State Farm Mutual Automobile Ins. Co.; RenaissanceRe Holdings Ltd.; State Farm Mutual Automobile Ins. Co.
20190469 | G | Acrisure Investors FO, LLC; Charles J. Nielson; Acrisure Investors FO, LLC.
20190475 | G | Forrester Research, Inc.; SiriusDecisions, Inc.; Forrester Research, Inc.
12/13/2018
20190318 | G | Gryphon Partners V, L.P.; NTG Holdings, LLC; Gryphon Partners V, L.P.
12/14/2018
20190362 | G | SVB Financial Group; Leerink Holdings LLC; SVB Financial Group.
20190417 | G | Leeds Equity Partners VI, L.P.; Dov Seidman; Leeds Equity Partners VI, L.P.
20190433 | G | U.S. Bancorp; Jorge and Mercedes Fernandez; U.S. Bancorp.
20190440 | G | Schell & Kampeter, Inc.; Diamond Pet Food Processors of Ripon, LLC; Schell & Kampeter, Inc.
20190441 | G | Schell & Kampeter, Inc.; Diamond Pet Food Processors of South Carolina LLC; Schell & Kampeter, Inc.
20190442 | G | Schell & Kampeter, Inc.; DPFP Management Company, LLC; Schell & Kampeter, Inc.
20190463 | G | Sempra Energy; InfraREIT, Inc.; Sempra Energy.
20190464 | G | Loyal Trust No. 1; InfraREIT, Inc.; Loyal Trust No. 1.
20190468 | G | Sempra Energy; Loyal Trust No.1; Sempra Energy.
20190472 | G | HollyFrontier Corporation; LCP VIII (AIV I), L.P.; HollyFrontier Corporation.
20190495 | G | Alphabet, Inc.; DexCom, Inc.; Alphabet, Inc.
20190497 | G | Sanofi; DexCom, Inc.; Sanofi.
20190460 | G | Carlyle Partners VII, L.P.; CommScope Holding Company, Inc.; Carlyle Partners VII, L.P.
20190466 | G | GI Partners Fund V LP; Genossenschaft Constanter; GI Partners Fund V, LP.
20190471 | G | Brookfield Capital Partners V L.P.; Johnson Controls International plc; Brookfield Capital Partners V, L.P.
20190476 | G | BlackRock, Inc.; Envestnet, Inc.; BlackRock, Inc.
20190478 | G | Hexcel Corporation; Daniel P. Healey III; Hexcel Corporation.
20190479 | G | Colfax Corporation; Blackstone Capital Partners V L.P.; Colfax Corporation.
20190481 | G | The Kraft Heinz Company; Mr. Mark Sisson; The Kraft Heinz Company.
20190484 | G | Ardian Americans Infrastructure Fund IV S.C.S SICAV-RAIF; New Jersey Resources Corporation; Americans Infrastructure Fund IV S.C.S SICAV-RAIF Ardian.
20190485 | G | Sun Capital Partners VI, LP.; Regal Beloit Corporation; Sun Capital Partners VI, LP.
20190487 | G | Montagu V LP; Eastman Kodak Company; Montagu V, LP.
20190491 | G | Xcel Energy Inc.; The Southern Company; Xcel Energy Inc.
20190492 | G | Aqua America, Inc.; SteelRiver Infrastructure Fund North America LP; Aqua America, Inc.
20190494 | G | Kentucky Racing Holdco, LLC; Kentucky Downs Partners, LLC; Kentucky Racing Holdco, LLC.
20190496 | G | Jeffrey Broin; POET Biorefining, LLC; Jeffrey Broin.
20190500 | G | NextEra Energy, Inc.; TBAIV II Feeder LLC; NextEra Energy, Inc.
20190501 | G | Permira VI L.P. 1; Pinstripe Holdings, LLC; Permira VI, L.P. 1.
20190502 | G | WEC Energy Group, Inc.; Iberdrola, S.A.; WEC Energy Group, Inc.
20190507 | G | Warren A. Hood, Jr.; Gary West; Warren A. Hood, Jr.
20190512 | G | Gryphon Partners V, L.P.; Johnson & Johnson; Gryphon Partners V, L.P.
12/18/2018
20181467 | G | Daimler AG; Bayerische Motoren Werke Aktiengesellschaft; Daimler AG.
20181468 | G | Bayerische Motoren Werke Aktiengesellschaft; Daimler AG; Bayerische Motoren Werke Aktiengesellschaft.
20190490 | G | Cerebus Institutional Partners VI, L.P.; Navistar International Corporation; Cerebus Institutional Partners VI, L.P.
12/19/2018
20190428 | G | Cressey & Company Fund VI LP; McCarthy Capital Fund V, L.P.; Cressey & Company Fund VI, L.P.
20190509 | G | Merit Corporation SAL; CEVA Logistics AG; Merit Corporation SAL.
20181670 | G | Gray Television, Inc.; Raycom Media, Inc.; Gray Television, Inc.
20190414 | G | Odyssey Investment Partners Fund V, LP; Cortec Group Fund V, L.P.; Odyssey Investment Partners Fund V, LP.
20190420 | G | Insight Venture Partners X, L.P.; Veeam Software Holding Limited; Insight Venture Partners X, L.P.
20190449 | G | Insight Venture Partners (Cayman) X, L.P.; Veeam Software Holding Limited; Insight Venture Partners (Cayman) X, L.P.
20190473 | G | Bessemer Securities LLC; Twilio Inc.; Bessemer Securities LLC.
20190474 | G | Bessemer Venture Partners VIII Institutional L.P.; Twilio Inc.; Bessemer Venture Partners VIII Institutional L.P.
20190504 | G | ArcLight Energy Partners Fund VI, L.P.; TransMontaigne Partners L.P.; ArcLight Energy Partners Fund VI, L.P.
20190511 | G | Rond Point Immobilier SAS; IQMS; Rond Point Immobilier SAS.
20190517 | G | E-Mart Inc.; Endeavour Capital Fund V, L.P.; E-Mart Inc.
12/21/2018
20180794 | G | Mr. Aloke Lohia and Mrs. Suchitra Lohia; M&G Resins USA, LLC; Mr. Aloke Lohia and Mrs. Suchitra Lohia.
20180795 | G | Alfa, S.A.B. de C.V.; M&G Resins USA, LLC; Alfa, S.A.B. de C.V.
20190400 | G | SAP SE; Grandview Holdings LLC; SAP SE.
20190438 | G | Vista Foundation Fund III, L.P.; Wrike, Inc.; Vista Foundation Fund III, L.P.
20190515 | G | Cimarex Energy Co.; Resolute Energy Corporation; Cimarex Energy Co.
20190518 | G | Par Pacific Holdings, Inc.; Riverstone Global Energy and Power Fund V (FT), L.P.; Par Pacific Holdings, Inc.
20190519 | G | Riverstone Global Energy and Power Fund V (FT), L.P.; Par Pacific Holdings, Inc.; Riverstone Global Energy and Power Fund V (FT), L.P.
20190522 | G | Vector Capital V, L.P.; Host Analytics, Inc.; Vector Capital V, L.P.
20190530 | G | New Mountain Partners V, L.P.; Remedy Founders LLC; New Mountain Partners V, L.P.
20190534 | G | RenaissanceRe Holdings Ltd.; Tokio Marine Holdings, Inc.; RenaissanceRe Holdings Ltd.
20190538 | G | Pentagon Federal Credit Union; Progressive Credit Union; Pentagon Federal Credit Union.
20190540 | G | ResMed Inc.; Reciprocal Labs Corporation; ResMed Inc.
20190545 | G | Arthur J. Gallagher & Co.; Inversion Holding Company, LLC; Arthur J. Gallagher & Co.
20190548 | G | Arsenal Capital Partners IV LP; Accretive III, L.P.; Arsenal Capital Partners IV LP.
12/26/2018
20190186 | G | Baylor Scott & White Holdings; Providence St. Joseph Health; Baylor Scott & White Holdings.
20190539 | G | ArcLight Energy Partners Fund VII, L.P.; Thorntons Inc.; ArcLight Energy Partners Fund VII, L.P.
20190549 | G | EQT VIII (No. 1) SCSp; Centerstage Investments, L.L.C.; EQT VIII (No. 1) SCSp.
20180129 | G | Michael J. Angelakis; WME Entertainment Parent, LLC; Michael J. Angelakis.
20190521 | G | Kadant Inc.; Levine Leichtman Capital Partners Private Capital Solutions; Kadant Inc.
20190523 | G | Carlisle Companies Incorporated; Michael F. Petersen; Carlisle Companies Incorporated.
20190529 | G | David and Tessie Ganzsarto; Beaumont Health; David and Tessie Ganzsarto.
20190558 | G | Denbury Resources Inc.; Penn Virginia Corporation; Denbury Resources Inc.

FOR FURTHER INFORMATION CONTACT: Theresa Kingsberry, Program Support Specialist, Federal Trade Commission Premerger Notification Office, Bureau of Competition, Room CC-5301, Washington, DC 20024, (202) 326-3100.

By direction of the Commission.
April Tabor,
Acting Secretary.

[FR Doc. 2019-07737 Filed 4-17-19; 8:45 am]

BILLING CODE 6750-01-P